DEPARTMENT OF THE INTERIOR

Bureau of Land Management

[LLMT922200-10-L13100000-FI0000-P;MTM 98742]

Notice of Proposed Reinstatement of Terminated Oil and Gas Lease MTM 98742, Montana

AGENCY: Bureau of Land Management, Interior.

ACTION: Notice.

SUMMARY: Under the provisions of the Mineral Leasing Act of 1920, as amended, Coburn, LLC timely filed a petition for reinstatement of competitive oil and gas lease MTM 98742, for land in Fergus County, Montana. The lessee paid the required rental accruing from the date of termination.

The Bureau of Land Management (BLM) has not issued a valid lease to any other interest affecting the lands. The lessee agrees to new lease terms for rentals and royalties of $10 per acre and 16-2/3 percent. The lessee paid the $500 administration fee for the reinstatement of the lease and the $163 cost for publishing this notice.

The lessee has met the requirements for reinstatement of the lease under Section 31(d) and (e) of the Mineral Leasing Act of 1920 (30 U.S.C. 188). The BLM is proposing to reinstate the lease, effective the date of termination, subject to:

• The original terms and conditions of the lease, except as otherwise provided;

• The increased rental of $10 per acre;

• The increased royalty of 16-2/3 percent;

• The $163 cost of publishing this notice; and

• The $500 administration fee.

FOR FURTHER INFORMATION CONTACT: Teri Bakken, Chief, Fluids Adjudication Section, Bureau of Land Management Montana State Office, 5001 Southgate Drive, Billings, Montana 59101-4669, 406-896-5091.

Teri Bakken,
Chief, Fluids Adjudication Section.

[FR Doc. 2010-26169 Filed 10-15-10; 8:45 am]

BILLING CODE 4310-DN-P